DEPARTMENT OF COMMERCE

National Oceanic and Atmospheric Administration

RIN: 0648-XG15

New England Fishery Management Council; Public Meeting

AGENCY: National Marine Fisheries Service (NMFS), National Oceanic and Atmospheric Administration (NOAA), Commerce.

ACTION: Notice of a public meeting.

SUMMARY: The New England Fishery Management Council's (Council) Groundfish Oversight Committee will meet to consider actions affecting New England fisheries in the exclusive economic zone (EEZ).

DATES: The meeting will be held on Thursday, March 27, 2008, at 9 a.m.

ADDRESSES: The meeting will be held at the Holiday Inn by the Bay, 88 Spring Street, Portland, ME 04101; telephone: (207) 775-2311.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The items of discussion in the committee's agenda are as follows:

1. The Groundfish Oversight Committee will meet to continue development of Amendment 16 to the Northeast Multispecies Fishery Management Plan. The Committee will address a wide range of issues at this meeting. These will include additional development of effort controls for the commercial fishery, such as days-at-sea restrictions, trip limits, closed areas, gear modifications, or other input controls.

2. They will also further develop Annual Catch Limit and Accountability Measure alternatives. Sector issues may also be discussed, such as how sectors participate in Special Access Programs and technical issues with respect to calculating each permit's potential sector contribution.

3. The Committee may also review specific measures text, and may consider other groundfish management issues as time permits. Recommendations developed by the Committee will be reported to the Council at a future meeting.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Paul J. Howard (see ADDRESSES) at least 5 days prior to the meeting date.

Authority: 16 U.S.C. 1801 et seq.

Dated: March 5, 2008.
Tracey L. Thompson,
Acting Director, Office of Sustainable Fisheries, National Marine Fisheries Service.

[FR Doc. E8-4614 Filed 3-7-08; 8:45 am]

BILLING CODE 3510-22-S